DEPARTMENT OF LABOR

Employment and Training Administration

[TA-W-40, 509]

Imerys, Dry Branch, Georgia; Notice of Termination of Investigation

Pursuant to section 221 of the Trade Act of 1974, an investigation was initiated on December 31, 2001, in response to a worker petition, which was filed by the company on behalf of workers at Imerys, Dry Branch, Georgia.

The petitioner has requested that the petition be withdrawn. Consequently, further investigation in this case would serve no purpose, and the investigation has been terminated.

Signed in Washington, DC this 30th day of January, 2002.
Linda G. Poole,
Certifying Officer, Division of Trade Adjustment Assistance.

[FR Doc. 02-3402 Filed 2-12-02; 8:45 am]

BILLING CODE 4510-30-M